DEPARTMENT OF ENERGY

Federal Energy Regulatory Commission

Notice of Application Ready for Environmental Analysis and Soliciting Comments, Recommendations, Terms and Conditions, and Prescriptions

November 19, 2000.

Take notice that the following hydrolectric application has been filed with the Commission and is available for public inspection.

a. Type of Application: Major New License.

b. Project No.: 1927-008.

c. Date filed: January 30, 1995 (most recently amended by PacifiCorp on February 22, 2000).

d. Applicant: PacificCorp.

e. Name of Project: North Umpqua Hydroelectric Project.

f. Location: On the North Umpqua River, in Douglas County, Oregon. The project occupies about 2,725 acres of land within the Umpqua National Forest, and about 117 acres of land administered by the Bureau of Land Management.

g. Filed Pursuant to: Federal Power Act 16 U.S.C. 791 (a)-825(r).

h. Applicant Contact: Timothy C. O'Connor, Director, Hydro Operations, PacifiCorp 825 Multnomah, Suite 1500, Portland, OR 97232, (503) 813-6660, and Thomas H. Nelson, Stoel Rives Boley Jones & Grey, 900 S.W. Fifth Avenue, Portland, OR 97204, (503) 294-9281.

i. FERC Contact: John Smith, 202-219-2460, john.smith@ferc.fed.us.

j. Deadline for filing comments, recommendations, terms and conditions, and prescriptions: March 1, 2001.

The comment due date has been set to coincide with the conclusion of settlement negotiations.

All documents (original and eight copies) should be filed with: David P. Boergers, Secretary, Federal Energy Regulatory Commission, 888 First Street, NE, Washington, DC 20426.

Comments and protests may be filed electronically via the internet in lieu of paper. See, 18 CFR 384.2001(a)(1)(iii) and the instructions on the Commission's web site at http://www.ferc.fed.us/efi/doorbell.htm.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted, and is ready for environmental analysis at this time.

1. (1) The project consists of a series of mainstem reservoirs, diversion canals and penstocks, and powerhouses on the North Umpqua River and two major tributaries—the Clearwater River and Fish Creek. The project's 8 developments include:

Lemolo No. 1: (1) a 120-foot-high diversion dam on the North Umpqua River, about 1 mile downstream of its confluence with Lake Creek, impounding the 11,752-acre-foot Lemolo Lake; (2) 16,310 feet of canal and flumes; (3) a forebay at the intake of a 7,338-foot-long steel penstock; (4) a 4.5-mile-long bypassed reach, (5) a powerhouse on the North Umpqua River at the mouth of Warm Springs Creek containing a 29,000-kilowatt (kW) turbine-generator unit; and (6) a 12-mile-long transmission line connecting the powerhouse to the Clearwater switching station.

Lemolo No. 2: (1) a 25-foot-high diversion dam on the North Umpqua River, immediately downstream of the Lemolo No. 1 powerhouse, with a 1.4-acre impoundment having no active storage; (2) 69,503 feet of canal and flumes; (3) a 159-acre-foot forebay at the intake of a 3,975-foot-long penstock; (5) an 11-mile-long bypassed reach; (6) a 71-foot-high surge tank; (7) a powerhouse on the North Umpqua River, approximately 3,500 feet upstream of Tiketee Lake, containing a 33,000-kW turbine-generator unit; and (8) a 1.4-mile-long transmission line to the Clearwater switching station.

Clearwater No. 1: (1) a 17-foot-high diversion dam on the Clearwater River, about 9 miles upstream of Toketee Lake, impounding the 30-acre-foot Stump Lake; (2) 13,037 feet of canals and flumes; (3) a 121-acre-foot forebay at the intake of a 4,863 foot-long penstock; (4) a 3-mile-long bypassed reach; (5) a powerhouse discharging directly into the Clearwater No. 2 diversion with a 15,000-kW turbine-generator unit; and (6) a 5.1-mile-long transmission line to the Clearwater switching station.

Clearwater No. 2: (1) and 18-foot-high diversion dam on the Clearwater River, immediately downstream of the Clearwater No. 1 powerhouse, with a small impoundment about 1.2 acres in surface area; (2) 31,235 feet of canal and flumes; (3) a 71-acre-foot forebay at the intake of a 1.168-foot-long penstock; (4) a 5-mile-long bypassed reach; (5) a powerhouse with a 26,000-kW turbine-generator on the North Umpqua River at Toketee Lake; and (6) a 0.3-mile-long transmission line to the Clearwater switching station.

Toketee: (1) a 58-foot-high dam at the confluence of the Clearwater and North Umpqua Rivers, impounding the 1,051-acre-foot Toketee Lake; (2) 6,994 feet of wook stave pipe and tunnel; (3) 1,067 feet of single penstock that splits into three 158-foot-long pentocks; (4) a 128-foot-high surge tank; (5) a 2-mile-long bypassed reach; and (6) a powerhouse about 2 miles downstream of Toketee Lake containing 3 turbine-generator units with a combined rated capacity of 42,500 kW. Power is delivered to the Toketee switching station, adjacent to the Toketee powerhouse.

Fish Creek: (1) a 6.5-foot-high diversion dam on Fish Creek, about 6 miles upstream from its confluence with the North Umpqua River, with a small impoundment about 3 acres in surface area; (2) 25,662 feet of canal and flumes; (3) a 110-acre-foot forebay at the intake of a 2,358-foot-long penstock; (4) a 6.6-mile-long bypassed reach; and (5) a powerhouse containing an 11,000-kW turbine-generator unit. Power is delivered to a collector transmission line between the Soda Springs powerhouse substation and the Toketee switching station.

Slide Creek: (1) a 30-foot-high diversion dam on the North Umpqua River, about 900 feet downstream of the Toketee powerhouse and impounding a 43-acre-foot reservoir with no active storage; (2) 9,653 feet of canal and flumes; (3) a forebay with no storage capacity at the intake of a 374-foot-long penstock; (4) a 2-mile-long bypassed reach; and (5) a powerhouse containing an 18,000-kW turbine generator unit on the North Umpqua River at the mouth of Slide Creek, approximately 1.3 miles above the Soda Springs dam. Power is delivered to a collector transmission line running between the Soda Springs powerhouse substation and the Toketee switching station.

Soda Springs: (1) a 77-foot-high diversion dam on the North Umpqua River downstream of the Slide Creek powerhouse, impounding a 412-acre-foot reservoir; (2) 2,112 feet of steel pipe; (4) a surge tank; (5) a 168-foot-long penstock; (6) a 0.5-mile-long bypassed reach; and (7) a powerhouse with a 11,000-kW turbine generator unit located on the North Umpqua River about 1.5 miles downstream of Medicine Creek. Power is delivered to the Soda Springs substation, adjacent to the Soda Springs powerhouse.

(2) The licensee proposes to make the following facility modifications:

A new enlarged forebay would be added to Lemolo No. 1 to virtually eliminate the risk of spill events. Instream flow outlet and measurement facilities would be modified or added in the bypassed reaches of all project developments. A new instream release structure would be constructed at the extreme lower end of the Clearwater bypassed reach to provide flows to the historic river channel and provide aquatic connectivity between the Clearwater and North Umpqua Rivers. Canal flow gages would be installed on Lemolo No. 1, Lemolo No. 2, Clearwater No. 1, Clearwater No. 2, Fish Creek, and Slide Creek conveyance systems. A penstock flow meter would be installed on the Toketee development to measure flows through the powerhouse. These facilities would measure conveyance system flows for both water rights compliance and conveyance system monitoring. In addition, the following enhancement measures would be implemented to improve aquatic and terrestrial connectivity: (a) reconnect Bear Creek, currently diverted into Stump Lake, by rerouting it through its historic channel to the mainstream Clearwater River; (b) reconnect 27 small tributaries that are currently intercepted by project canals by constructing artificial channels for water to cross the canal and providing pre-cast concrete canal covers; (c) reconnect 36 small tributaries that are currently intercepted by flumes or flow under flumes through culverts too small to allow passage of small wildlife by installing 10-foot-wide culverts in a shallow excavation under each flume; (d) reconnect 8 tributary streams that are currently diverted into Lemolo No. 1 and Lemolo No. 2 waterways by removing diversion structures, except for Deer Creek, and allowing the streams to flow down their natural channels; (e) reconfigure the historic stream channels for Potter and White Mule Creeks that have been disturbed by activities in the vicinity of project waterways to provide riparian function; (f) create 4 ponds or similar stillwater habitat areas to provide stable, predator-free environments for breeding amphibians; and (g) provide 26 new 12-foot-wide wildlife bridges, install up to 175 new 2-foot-wide wildlife bridges, and expand 29 existing wildlife bridges across water conveyance systems.

(3) The licensee proposes to operate the project as follows:

The functional relationship of the 8 projects would remain relatively unchanged from the existing operations. Generally, the project developments above the Soda Springs development would continue to operate to meet daily high energy demands during most of the year. The Soea Springs development would be operated continuously to provide uniform flows in the North Umpqua River below the project. Proposed increases in instream flow in the bypassed reaches to more closely resemble a natural hydrograph, meet water quality standards, and improve resident and anadromous fish habitat would result in a decrease in gross project generation.

m. Copies of the application and the February 22, 2000, amendments are available for inspection and reproduction at the Commission's Public Reference Room, located at 888 First Street, NE., Room 2-A Washington, DC 20426, or by calling (202) 208-1371. The application and amendments may be viewed on http://www.ferc.fed.us/online/rims.htm (call (202) 208-2222 for assistance). Copies are also available for inspection and reproduction at the address in item h above.

n. The Commission directs that all comments, recommendations, terms and conditions and prescriptions concerning the application be filed with the Commission by March 1, 2001. All reply comments must be filed with the Commission by April 16, 2001.

Anyone may obtain an extension of time for these deadlines from the Commission only upon a showing of good cause or extraordinary circumstances in accordance with 18 CFR 385.2008.

All filings must (1) bear in all capital letters the title “COMMENTS”, “REPLY COMMENTS”, “RECOMMENDATIONS”, “TERMS AND CONDITIONS”, or “PRESCRIPTIONS”; (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

Linwood A. Watson, Jr.,
Acting Secretary.

[FR Doc. 00-29695 Filed 11-20-00; 8:45 am]

BILLING CODE 6717-01-M